DEPARTMENT OF COMMERCE

International Trade Administration

[A-580-886]

Ferrovanadium From the Republic of Korea: Final Results of the Expedited Sunset Review of the Antidumping Duty Order

AGENCY: Enforcement and Compliance, International Trade Administration, Department of Commerce.

SUMMARY: As a result of this expedited sunset review, the U.S. Department of Commerce (Commerce) finds that revocation of the antidumping duty (AD) order on ferrovanadium from the Republic of Korea (Korea) would be likely to lead to continuation or recurrence of dumping at the levels identified in the “Final Results of Sunset Review” section of this notice.

DATES: Applicable August 8, 2022.

FOR FURTHER INFORMATION CONTACT: Krisha Hill, AD/CVD Operations, Office IV, Enforcement and Compliance, International Trade Administration, U.S. Department of Commerce, 1401 Constitution Avenue NW, Washington, DC 20230; telephone: (202) 482-4037.

SUPPLEMENTARY INFORMATION:

Background

On May 15, 2017, Commerce published the AD order on ferrovanadium from Korea.¹ On April 1, 2022, Commerce published the notice of initiation of this sunset review of the Order,² pursuant to section 751(c) of the Tariff Act of 1930, as amended (the Act). Subsequently, Commerce received a notice of intent to participate within the 15-day deadline specified in 19 CFR 351.218(d)(1)(i) from the Vanadium Producers and Reclaimers Association and its members, AMG Vanadium LLC and U.S. Vanadium, LLC (collectively, domestic interested parties).³ The domestic interested parties claimed interested party status under sections 771(9)(C) and (E) of the Act.⁴ On May 2, 2022, Commerce received an adequate substantive response to the notice of initiation from the domestic interested parties within the 30-day deadline specified in 19 CFR 351.218(d)(3)(i).⁵ Commerce did not receive a substantive response from any respondent interested party.

¹ See Ferrovanadium from the Republic of Korea: Antidumping Duty Order, 82 FR 22309 (May 15, 2017) (Order).

² See Initiation of Five-Year (Sunset) Reviews, 87 FR 19069 (April 1, 2022).

³ See Domestic Interested Parties' Letter, “Ferrovanadium from the Republic of Korea: Notice of Intent to Participate,” dated April 11, 2022.

⁴ Id. at 2.

⁵ See Domestic Interested Parties' Letter, “Ferrovanadium from the Republic of Korea: Substantive Response to the Notice of Initiation,” dated May 2, 2022.

On May 24, 2022, Commerce notified the U.S. International Trade Commission that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews Initiated on April 1, 2022,” dated May 24, 2022.

Scope of the Order

The merchandise covered by the Order is ferrovanadium from Korea. For a complete description of the scope of the Order, see the Issues and Decision Memorandum.⁷

⁷ See Memorandum, “Issues and Decision Memorandum for the Expedited Final Results of the Sunset Review of the Antidumping Duty Order on Ferrovanadium from the Republic of Korea,” dated concurrently with, and hereby adopted by, this notice (Issues and Decision Memorandum).

Analysis of Comments Received

All issues raised in this sunset review are addressed in the Issues and Decision Memorandum. A list of the topics discussed in the Issues and Decision Memorandum is included as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Final Results of Sunset Review

Pursuant to sections 751(c)(1), 752(c)(1) and (3) of the Act, Commerce determines that revocation of the Order would be likely to lead to continuation or recurrence of dumping at dumping margins up to 54.69 percent.⁸

⁸ See Order, 82 FR at 22310.

Administrative Protective Order (APO)

This notice serves as the only reminder to parties subject to APO of their responsibility concerning the return or destruction of proprietary information disclosed under APO in accordance with 19 CFR 351.305. Timely notification of the return or destruction of APO materials, or the conversion to judicial protective order, is hereby requested. Failure to comply with the regulations and terms of an APO is a violation which is subject to sanction.

Notification to Interested Parties

We are issuing and publishing the final results and this notice in accordance with sections 751(c), 752(c), and 777(i)(1) of the Act, and 19 CFR 351.218 and 351.221(c)(5)(ii).

Dated: August 1, 2022.
Abdelali Elouaradia,
Deputy Assistant Secretary for Enforcement and Compliance.

Appendix—List of Topics Discussed in the Issues and Decision Memorandum

I. Summary

II. Background

III. Scope of the Order

IV. History of the Order

V. Legal Framework

VI. Discussion of the Issues

1. Likelihood of Continuation or Recurrence of Dumping

2. Magnitude of Dumping Margins Likely to Prevail

VII. Final Results of Sunset Review

VIII. Recommendation

[FR Doc. 2022-16915 Filed 8-5-22; 8:45 am]

BILLING CODE 3510-DS-P